DEPARTMENT OF COMMERCE

International Trade Administration

[C-570-963]

Certain Potassium Phosphate Salts From the People's Republic of China: Final Results of the Expedited Second Five-Year Sunset Review of the Countervailing Duty Order

AGENCY: Enforcement and Compliance, International Trade Administration, Department of Commerce.

SUMMARY: As a result of this second sunset review, the Department of Commerce (Commerce) finds that revocation of the countervailing duty (CVD) order on certain potassium phosphate salts (phosphate salts) from the People's Republic of China (China) would be likely to lead to continuation or recurrence of countervailable subsidies at the levels indicated in the “Final Results of Sunset Review” section of this notice.

DATES: Applicable March 8, 2021.

FOR FURTHER INFORMATION CONTACT: Mark Hoadley, AD/CVD Operations, Office VII, Enforcement and Compliance, International Trade Administration, U.S. Department of Commerce, 1401 Constitution Avenue NW, Washington, DC 20230; telephone: (202) 482-3148.

SUPPLEMENTARY INFORMATION:

Background

On July 22, 2010, Commerce published its CVD order on phosphate salts from China in the Federal Register.¹ On November 3, 2020, Commerce published the notice of initiation of the second sunset review of the Order, pursuant to section 751(c) of the Tariff Act of 1930, as amended (the Act).² Commerce received a notice of intent to participate from ILC Performance Products LP (ILC) and Prayon, Inc. (Prayon) (collectively, domestic interested parties), within the deadline specified in 19 CFR 351.218(d)(1)(i).³ ILC and Prayon claimed interested party status under section 771(9)(C) of the Act, as both are producers of the domestic like product in the United States.

¹ See Certain Potassium Phosphate Salts from the People's Republic of China: Countervailing Duty Order, 75 FR 42682 (July 22, 2010) (Order).

² See Initiation of Five-Year (Sunset) Reviews, 85 FR 69585 (November 3, 2020).

³ See Domestic Interested Parties' Letter, “Potassium Phosphate Salts from the People's Republic of China: Notice of Intent to Participate,” dated November 18, 2020.

Commerce received a substantive response from the domestic interested parties ⁴ within the 30-day deadline specified in 19 CFR 351.218(d)(3)(i). We received no substantive response from any other domestic or interested parties in this proceeding, nor was a hearing requested.

⁴ See Domestic Interested Parties' Letter, “Potassium Phosphate Salts from the People's Republic of China: Substantive Response to the Notice of Initiation of Five-Year (Sunset) Review of the Antidumping Duty Order and Countervailing Duty Order,” dated December 3, 2020.

On December 23, 2020, Commerce notified the U.S. International Trade Commission (ITC) that it did not receive an adequate substantive response from respondent interested parties.⁵ As a result, pursuant to section 751(c)(3)(B) of the Act and 19 CFR 351.218(e)(1)(ii)(C)(2), Commerce conducted an expedited (120-day) sunset review of the Order.

⁵ See Commerce's Letter, “Sunset Reviews for November 2020,” dated December 23, 2020.

Scope of the Order

The merchandise covered by the scope of the Order is phosphate salts. Imports of merchandise included within the scope of the Order are currently classifiable under subheadings 2835.24.0000 and 2835.39.1000 of the Harmonized Tariff Schedule of the United States (HTSUS). Although the HTSUS subheadings are provided for convenience and customs purposes, the written description of the merchandise covered by the scope of the Order is dispositive. For a complete description of the scope of the Order, see the accompanying Issues and Decision Memorandum.⁶

⁶ See Memorandum, “Issues and Decision Memorandum for the Final Results of the Expedited Second Sunset Review of the Countervailing Duty Order on Certain Potassium Phosphate Salts from the People's Republic of China,” dated concurrently with, and hereby adopted by, this notice (Issues and Decision Memorandum).

Analysis of Comments Received

All issues raised in this sunset review are addressed in the Issues and Decision Memorandum. A list of topics discussed in the Issues and Decision Memorandum is included as an appendix to this notice. The Issues and Decision Memorandum is a public document and is on file electronically via the Enforcement and Compliance's Antidumping and Countervailing Duty Centralized Electronic Service System (ACCESS). ACCESS is available to registered users at http://access.trade.gov. In addition, a complete version of the Issues and Decision Memorandum can be accessed directly on the internet at http://enforcement.trade.gov/frn/. The signed and electronic versions of the Issues and Decision Memorandum are identical in content.

Final Results of Sunset Review

Pursuant to sections 751(c)(1) and 752(b) of the Act, we determine that revocation of the CVD order on phosphate salts from China would be likely to lead to continuation or recurrence of countervailable subsidies at the following rates:

Manufacturers/producers/ exporters | Net countervailable subsidy (percent)
Lianyungang Mupro Import Export Co Ltd. | 109.11
Mianyang Aostar Phosphate Chemical Industry Co. Ltd. | 109.11
Shifang Anda Chemicals Co. Ltd. | 109.11
All Others | 109.11

Administrative Protective Order (APO)

This notice also serves as the only reminder to parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing the final results and this notice in accordance with sections 751(c), 752(b), and 777(i)(1) of the Act, and 19 CFR 351.218.

Dated: March 2, 2021.
Christian Marsh,
Acting Assistant Secretary for Enforcement and Compliance.

Appendix—List of Topics Discussed in the Issues and Decision Memorandum

I. Summary

II. Background

III. History of the Order

IV. Scope of the Order

V. Legal Framework

VI. Discussion of the Issues

1. Likelihood of Continuation or Recurrence of a Countervailable Subsidy

2. Net Countervailable Subsidy Rates Likely to Prevail

3. Nature of the Subsidies

VII. Final Results of Review

VIII. Recommendation

[FR Doc. 2021-04767 Filed 3-5-21; 8:45 am]

BILLING CODE 3510-DS-P